DEPARTMENT OF THE INTERIOR

Bureau of Land Management

[NV-010-5870-EU; N-77382; 7-08807]

Notice of Realty Action: Direct (Non-Competitive) Sale of Reversionary Interest, Elko County, NV

AGENCY: Bureau of Land Management, Interior.

ACTION: Notice of realty action, sale and release of reversionary interest in public land in West Wendover, Nevada.

SUMMARY: Reversionary interest held by the United States in the lands described in the Supplementary Information below has been determined suitable for direct sale and release to the City of West Wendover, Nevada, under the authority of Section 203 of the Federal Land Policy and Management Act of October 21, 1976 (FLPMA) (43 U.S.C.1713).

The lands are currently patented by the City of West Wendover, Nevada, but the purposes for which the land can be used is restricted by a reversionary clause in the patent under which the land was conveyed by the United States.

DATES: Comments regarding the proposed sale, and other pertinent documents, must be received by the Bureau of Land Management (BLM) on or before February 26, 2007.

ADDRESSES: Elko Field Office, Bureau of Land Management, 3900 E. Idaho St., Elko, NV 89801. More detailed information regarding the proposed sale and the land involved may be reviewed during normal business hours (7:30 a.m. to 4:30 p.m.) at the Elko Field Office.

FOR FURTHER INFORMATION CONTACT: Cathie Jensen, Supervisory Realty Specialist, at the above address, or (775) 753-0230 or by e-mail at Cathie_Jensen@BLM.GOV.

SUPPLEMENTARY INFORMATION: The purpose of the sale of the reversionary interests in the land is so the land, patented to the City of West Wendover, can be used for the purposes which will be the best and highest uses of the land and best meet the needs of the City of West Wendover without the threat of a reversion of the title for breach of patent conditions. The lands are not needed for Federal purposes and the United States has no present interest in the property. The action is consistent with Federal, state and local planning and zoning. The reversionary interest in this land will be offered by direct sale and release to the City of West Wendover for Fair Market Value which is $1,600,000.00. The reversionary interest in these lands will not be offered for sale and release until 60 days after this notice.

The release, when issued, will be for the reversionary interest only. All other terms and conditions of the Patent No. 27-2003-0001 will continue to apply to the lands involved. For a period of 45 days following the publication of this notice in the Federal Register, interested parties may submit comments regarding the proposed conveyance or classification of the lands to the Elko Field Manager, at the above address. In the absence of timely objections, this proposal shall become the final decision of the Department of the Interior.

Pursuant to the terms and conditions of a patent dated October 28, 2002 issued pursuant to the Recreation and Public Purpose (R&PP) Act, as amended (43 U.S.C. 869-869-4), the United States retained and continues to hold a reversionary interest in the above described land. The City of West Wendover, Nevada proposes to change the use of the 81.065 acre parcel, from solely municipal and recreational use, to include commercial privately owned property to accommodate community expansion and commercial development. If the City of West Wendover, Nevada desires to transfer the title to, or control over, the land to a “for profit” entity, or if the land is devoted to a “for profit” use, the land (ownership), as stated in the Act, would revert to the United States because such would be inconsistent with the R&PP Act (43 U.S.C. 869-2(a)).

The City desires to change the use and control of the 81.065 acre parcel, from solely municipal and recreational use, to include commercial property to accommodate community expansion and commercial development. The City currently uses the land for fire station, police station, recreational ball field and park purposes which are appropriate uses under the R&PP Act. Direct sale procedures to the City are considered appropriate, in this case, as the 81.065 acre parcel of land described above has been patented to the City, and transfer of the Federal reversionary interest, if it were sanctioned, to any other entity would not protect existing equities of West Wendover, Nevada in the land. The sale would be conducted under the provisions found at 43 CFR 2711.3.3 (a)(1) and (2) for direct sales which state the following: Direct sales (without competition) may be utilized, when in the opinion of the authorized officer, a competitive sale is not appropriate and the public interest would best be served by a direct sale. Examples are, but are not limited to,: (1) A tract identified for transfer to State or local government or nonprofit organization; or (2) A tract identified for sale that is an integral part of a project or public importance and speculative bidding would jeopardize a timely completion and economic viability of the project. The purpose of the sale is so that the land may be used for the purposes which, in the opinion of the authorized officer, will be the best and highest uses of the land and best meet the needs of the City without the threat of a reversion of the title to the United States for violation of patent conditions. The sale is consistent with current BLM land use planning for the area.

Consequently, the City of West Wendover, Nevada has applied to the BLM to be released from the reverter by the purchase thereof pursuant to section 203 of the Federal Land Policy and Management Act of 1976 (Pub. L. 94-579), 43 U.S.C. 1713, and 43 CFR 2711.3.3 (a)(1). The reverter is identified as the R&PP Act reversionary interest of the United States in patent 27-2003-0001, pertaining to particular parcels described as follows:

Mount Diablo Meridian, Nevada

T. 33 N., R. 70 E.,

Section 16, lots 1, 4, 6, and 11; S½SW¼NE¼NE¼, S½SE¼SW¼SW¼NE¼, NE¼SW¼SE¼SW¼NE¼, S½SW¼SE¼SW¼NE¼, and SE¼SE¼SW¼NE¼.

Containing 81.065 acres, more or less.

The City of West Wendover, Nevada would pay the fair market value of the reverter in the sum of $1,600,000.00, as determined by the BLM authorized officer having taken into account an appraisal, conducted in accordance with the applicable appraisal standards and that assumed the land, as patented pursuant to the R&PP Act, to be free and clear of the outstanding reversionary interest now held by the United States.

The reversionary interest is being offered for non-competitive (direct) sale and release to the City of West Wendover, Nevada, in accordance with the criterion prescribed in 43 CFR 2711.3-3(a)(1), namely, that the public interest would best be served by the sale and release to the local government. Authority for the sale and release of the reversionary interest is Section 203 of the Federal Land Policy and Management Act of October 21, 1976 (FLPMA) (43 U.S.C. 1713).

Direct sale procedures to the City of West Wendover, Nevada are considered appropriate, in this case, as the 81.065 acre parcel of land described above was patented previously to the City of West Wendover, Nevada, and transfer of the Federal reversionary interest, if it were sanctioned, to any other entity would not protect existing equities of the City of West Wendover, Nevada in the land. The direct sale is consistent with current BLM land use planning for the area. Currently the land involved is classified for lease/conveyance pursuant to the R&PP Act. Thus classification remains to be terminated effective prior to direct sale.

The release of the reversionary interest of the 81.065 acres will be made subject to the provisions of the Federal Land Policy and Management Act, the applicable regulations of the Secretary of the Interior, all valid existing rights, and the following:

1. A right-of-way for ditches or canals by the authority of the United States pursuant to the Act of August 30, 1890 (43 U.S.C. 945);

2. The terms and conditions of the United States patent 27-2003-0001, including but not limited to all mineral deposits in the land so patented, and to it, or persons authorized by it, the right to prospect for, mine, and remove such deposits from the same under applicable law regulations to be established by the Secretary of the Interior;

3. Those rights for federal highway purposes which have been reserved to the Federal Highway Administration, its successors and assigns, by right-of-way no. N-45133, pursuant to the section 501 of FLPMA (43 U.S.C. 1761); and N-57341.

4. Those rights for federal highway purposes which have been granted to the State of Nevada Department of Transportation, its successors and assigns, by right-of-way No. N-041037, pursuant to the Act of November 9, 1921 (042 Sat. 0261).

5. A right-of-way for railroad purposes granted to Union Pacific Railroad Company, its successors and assigns, by right-of-way No. CC-005090, pursuant to the Act of March 3, 1875 (18 Stat. 482, 43 U.S.C. 934-939).

6. Those rights for telephone line purposes which have been granted to Citizens Communications Company, its successors and assigns, by right-of-way. No. CC-01089A and N-61184, pursuant to section 501 of FLPMA (43 U.S.C.1761);

7. Those rights for telephone line purposes which have been granted to Beehive Telephone Company, Inc., its successors and assigns, by right-of-way No. E-001655 and N-47793, pursuant to section 501 of FLPMA (43 U.S.C. 1761);

8. Those rights for power line purposes which have been granted to Wells Rural Electric, its successors and assigns, by rights-of -way Nos. N-39920, N-53135, and N-61064, pursuant to section 501 of FLPMA (43 U.S.C. 1761);

9. Those rights for fiber optic cable purposes which have been granted to Sprint Communications Company, LP, its successors and assigns, by right-of-way No. N-42787, pursuant to section 501 of FLPMA;

10. Those rights for access road purposes which have been granted to Chevron USA, Inc., its successors and assigns, by right-of-way No. N-48016, pursuant to section 501 of FLPMA.

11. The purchaser, by accepting the release of the reversionary interest of the United States agrees to indemnify, defend, and hold the United States, its officers, agents or employees harmless from any costs, damages, claims, causes of action, penalties, fines, liabilities, and judgments of any kind arising from the past, present or future acts or omissions of the purchaser, its employees, agents, contractors, or lessees, or third-party arising out of or in connection with the purchaser's acceptance of the aforementioned release or purchaser's use and/or occupancy of the land involved resulting in: (1) Violations of Federal, State, and local laws and regulations that are now, or in the future become, applicable to real property; (2) Judgments, claims or demands of any kind assessed against the United States; (3) Cost, expenses, or damages of any kind incurred by the United States; (4) Releases or threatened releases of solid or hazardous waste(s) and/or hazardous substances(s), as defined by Federal or State environmental laws, off, on, into or under land, property, and other interests of the United States; (5) Other activities by which solids or hazardous substances or wastes, as defined by Federal and State environmental laws are generated, released, stored, used, or otherwise disposed of on the land involved, and any cleanup, response, remedial action or other actions related in any manner to said solid or hazardous substances or wastes; or (6) Natural resource damages as defined by Federal and State law. Patentee shall stipulate that it will be solely responsible for compliance with all applicable Federal, State, and local environmental and regulatory provisions, throughout the life of the facility, including any closure and/or post-closure requirements that may be imposed with respect to any physical plant and/or facility upon the land involved under any Federal, state, or local environmental laws or regulatory provisions. This covenant shall be construed as running with the land and may be enforced by the United States in a court of competent jurisdiction.

No warranty of any kind, express or implied, is given by the United States in connection of the sale or release of the reversionary interest. The Documentation of Land Use Conformance and National Environmental Policy Adequacy, map, and approved appraisal report covering the proposed sale, are available for review at the BLM, Elko Field Office at the address above.

For a period until February 26, 2007, interested parties may submit written comments to the Elko Field Office Manager at the above address. Facsimiles, telephone calls, and electronic mail will not be considered acceptable submissions by the authorized officer. Any adverse written comments will be reviewed by the State Director, who may sustain, vacate, or modify this proposed realty action and issue a final determination. In the absence of timely field objections this realty action will become the final determination of the Department of the Interior. Any written comments received during this process, as well as the commenter's name and address, will be available to the public in the administrative record and/or pursuant to a Freedom of Information Act request. You may indicate for the record that you do not wish to have your name and/or address made available to the public. Any determination by the BLM to release or withhold the names and/or address of those who comment will be made on a case-by-case basis. A request from a commenter to have their name/or address withheld from public release will be honored to the extent permissible by the law. The reversionary interest will not be offered for sale and release until March 13, 2007.

Authority: ( 43 CFR 2711.1-2).

Dated: January 5, 2007.
Helen Hankins,
Elko Field Manager.

[FR Doc. E7-429 Filed 1-11-07; 8:45 am]

BILLING CODE 4310-HC-P